DEPARTMENT OF TRANSPORTATION

Federal Aviation Administration

Premium War Risk Insurance

AGENCY: Federal Aviation Administration, DOT.

ACTION: Notice of extension of aviation insurance.

SUMMARY: This notice contains the text of a memo from the Secretary of Transportation to the President regarding the extension of the provision of aviation insurance coverage for U.S. flag commercial air carrier service in domestic and international operations.

DATES: Dates of extension from April 15, 2003 through June 13, 2003.

FOR FURTHER INFORMATION CONTACT: Helen Kish, Program Analyst, APO-3, or Eric Nelson, Program Analyst, APO-3, Federal Aviation Administration, 800 Independence Ave., SW., Washington, DC 20591, telephone (202) 267-9943 or (202) 267-3090. Or online at FAA Insurance Web site: http://insurance.faa.gov.

SUPPLEMENTARY INFORMATION: On April 8, 2003, the Secretary of Transportation authorized a 60-day extension of aviation insurance provided by the Federal Aviation Administration as follows:

Memorandum to the President

“Pursuant to the authority delegated to me in paragraph (3) of Presidential Determination No. 01-29 of September 23, 2001, and the direction of Section 1202 of the Homeland Security Act of 2002, I have extended that determination to allow for the provision of aviation insurance and reinsurance coverage for U.S. Flag commercial air carrier service in domestic and international operations for an additional 60 days.

Pursuant to section 44306(b) of Chapter 443 of 49 U.S.C., Aviation Insurance, the period for provision of insurance shall be extended from April 15, 2003, through June 13, 2003.”

/s/ Norman Y. Mineta

Affected Public: Air carriers who currently have Premium War-Risk Insurance with the Federal Aviation Administration.

Issued in Washington, DC on April 25, 2003.
Nan Shellabarger,
Deputy Director, Office of Aviation Policy and Plans.

[FR Doc. 03-11234 Filed 5-6-03; 8:45 am]

BILLING CODE 4910-13-M